DEPARTMENT OF HOUSING AND URBAN DEVELOPMENT

[Docket No. FR-5486-N-02]

Notice of Proposed Information Collection for Public Comment: Notice of Funding Availability for the Transformation Initiative: Sustainable Communities Research Grant Program

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: Comment Due Date: March 28, 2011.

ADDRESSES: Interested persons are invited to submit comments regarding this proposal. Comments should refer to the proposal by name and/or OMB Control Number and should be sent to: Regina Gray, Office of Policy Development and Research, Department of Housing and Urban Development, 451 7th Street, SW., Room 8132, Washington, DC 20410-6000.

FOR FURTHER INFORMATION CONTACT: Regina Gray at (202) 402-2876 (this is not a toll-free number), for copies of the proposed forms and other available documents.

SUPPLEMENTARY INFORMATION: The Department of Housing and Urban Development will submit the proposed extension of information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Notice of Funding Availability for the Transformation Initiative: Sustainable Communities Research Grant Program.

OMB Control Number

Description of the Need for the Information and Proposed Use: The information is being collected to select applicants for award in this statutorily created competitive grant program and to monitor performance of grantees to ensure they meet statutory and program goals and requirements.

Agency Form Numbers: SF-424, SF-424 Supplemental, HUD-424-CB, SF-LLL, HUD-2880, HUD-2993, HUD-96010 and HUD-96011.

Members of the Affected Public: Nationally recognized and accredited institutions of higher education; non-profit foundations, think tanks, research consortia or policy institutes, and for-profit organizations located in the U.S.. Estimation of the total number of hours needed to prepare the information collection including number of respondents, frequency of response, and hours of response: Information pursuant to grant award will be submitted once a year. The following chart details the respondent burden on a quarterly and annual basis:

(1) Pre-Award

a. HUD estimates that each applicant spends approximately 7 person-hours to complete the preliminary application phase. Almost all of this time is invested by a researcher, expert, analyst. HUD estimates the mean hourly rate at $30. For 15 applications, the computation is as follows: 15 applications × 7 hours × $30 per hours = $3,150.

HUD estimates that each applicant spends approximately 41.25 person-hours to complete an application. Almost all of this time is invested by a researcher, expert, analyst. HUD estimates the mean hourly rate at $30. For 10 applications, the computation is as follows: 10 applications × 41.25 hours × $30 per hours = $12,375.

(2) Post-Award

HUD estimates that each grantee will spend approximately 6 hours a year maintaining records. HUD also estimates that each grantee will spend approximately 4 hours a year preparing monitoring reports. Clerical staff and faculty/supervisory staff will share this burden. HUD estimates the applicable hourly rate at $15. The computation is as follow: 2 grantees × 10 hours × $15 an hour = $300.

Description of information collection | Number of respondents | Responses per year | Total annual responses | Hrs per response | Total hours
SF424 | 30 | 1 | 30 | 0.75 | 11.25
Pre-application stage | 30 | 1 | 30 | 7 | 105
SF424 Supplement | 20 | 1 | 20 | 0.08 | .8
HUD 424CB | 20 | 1 | 20 | 3 | 60
SFLLL | 20 | 1 | 20 | 0.17 | 3.4
HUD 2880 (2510-0011) | 20 | 1 | 20 | 0 | 0
HUD 96010 (2535-0114) | 20 | 1 | 20 | 3 | 60
Rating factor 1 | 20 | 1 | 20 | 7 | 140
Rating factor 2 | 20 | 1 | 20 | 7 | 140
Rating factor 3 | 20 | 1 | 20 | 7 | 140
Rating factor 4 | 20 | 1 | 20 | 7 | 140
Rating factor 5 | 20 | 1 | 20 | 7 | 140
Subtotal (Application) | 20 | 1 | 20 | 49 | 980
Quarterly Reports | 5 | 4 | 20 | 6 | 120
Record keeping | 5 |  | 5 | 4 | 20
Total | 20 |  | 10 | Varies | 1,120

Status of the proposed information collection: Pending OMB approval.

Authority: U.S. Code Title 12, 1701z Research and demonstrations.

Dated: January 14, 2011.
Raphael W. Bostic,
Assistant Secretary for Policy Development and Research.

[FR Doc. 2011-1526 Filed 1-24-11; 8:45 am]

BILLING CODE 4210-67-P